DEPARTMENT OF ENERGY

Federal Energy Regulatory Commission

Combined Notice of Filings #1

Take notice that the Commission received the following exempt wholesale generator filings:

Docket Numbers: EG25-412-000.

Applicants: Mount Vernon Battery Storage, LLC.

Description: Mount Vernon Battery Storage, LLC submits Notice of Self-Certification of Exempt Wholesale Generator Status.

Filed Date: 7/28/25.

Accession Number: 20250728-5155.

Comment Date: 5 p.m. ET 8/18/25.

Docket Numbers: EG25-413-000.

Applicants: SR Millington II, LLC.

Description: SR Millington II, LLC submits Notice of Self-Certification of Exempt Wholesale Generator Status.

Filed Date: 7/28/25.

Accession Number: 20250728-5156.

Comment Date: 5 p.m. ET 8/18/25.

Docket Numbers: EG25-414-000.

Applicants: Harquahala Flats Energy Storage II, LLC.

Description: Harquahala Flats Energy Storage II, LLC submits Notice of Self-Certification of Exempt Wholesale Generator Status.

Filed Date: 7/28/25.

Accession Number: 20250728-5159.

Comment Date: 5 p.m. ET 8/18/25.

Docket Numbers: EG25-415-000.

Applicants: Thunder Wolf II, LLC.

Description: Thunder Wolf II, LLC submits Notice of Self-Certification of Exempt Wholesale Generator Status.

Filed Date: 7/28/25.

Accession Number: 20250728-5160.

Comment Date: 5 p.m. ET 8/18/25.

Docket Numbers: EG25-416-000.

Applicants: Highland Solar I, LLC.

Description: Highland Solar I, LLC submits Notice of Self-Certification of Exempt Wholesale Generator Status.

Filed Date: 7/29/25.

Accession Number: 20250729-5041.

Comment Date: 5 p.m. ET 8/19/25.

Docket Numbers: EG25-417-000.

Applicants: Eloy Valley Energy Center III, LLC.

Description: Eloy Valley Energy Center III, LLC submits Notice of Self-Certification of Exempt Wholesale Generator Status.

Filed Date: 7/29/25.

Accession Number: 20250729-5049.

Comment Date: 5 p.m. ET 8/19/25.

Docket Numbers: EG25-418-000.

Applicants: South Platte Storage, LLC.

Description: South Platte Storage, LLC submits Notice of Self-Certification of Exempt Wholesale Generator Status.

Filed Date: 7/29/25.

Accession Number: 20250729-5056.

Comment Date: 5 p.m. ET 8/19/25.

Take notice that the Commission received the following electric rate filings:

Docket Numbers: ER20-1790-003; ER13-2409-011; ER11-4501-017; ER12-2448-016; ER16-2687-005; ER16-2653-007; ER17-790-004; ER20-2134-003; ER16-2293-007; ER18-2312-005; ER18-2330-004; ER15-2615-006; ER16-2577-006; ER15-2620-006; ER14-2858-010; ER17-2470-006; ER17-2457-006; ER21-2597-003; ER12-979-016; ER11-4498-015; ER11-4499-015; ER18-27-005; ER22-2482-001; ER22-2481-002.

Applicants: Seven Cowboy Wind Project, LLC, 25 Mile Creek Windfarm LLC, Thunder Ranch Wind Project, LLC, Smoky Hills Wind Project II, LLC, Smoky Hills Wind Farm, LLC, Rocky Ridge Wind Project, LLC, Rockhaven Wind Project, LLC, Rock Creek Wind Project, LLC, Red Dirt Wind Project, LLC, Origin Wind Energy, LLC, Little Elk Wind Project, LLC, Lindahl Wind Project, LLC, Goodwell Wind Project, LLC, Enel Green Power Rattlesnake Creek Wind Project, LLC, Enel Green Power Diamond Vista Wind Project, LLC, Drift Sand Wind Project, LLC, Cimarron Bend Wind Project III, LLC, Cimarron Bend Wind Project II, LLC, Cimarron Bend Wind Project I, LLC, Chisholm View Wind Project II, LLC, Chisholm View Wind Project, LLC, Caney River Wind Project, LLC, Buffalo Dunes Wind Project, LLC, Aurora Wind Project, LLC.

Description: Supplement to 12/31/2024, Triennial Market Power Analysis for Southwest Region of Aurora Wind Project, LLC, et al.

Filed Date: 7/25/25.

Accession Number: 20250725-5187.

Comment Date: 5 p.m. ET 8/15/25.

Docket Numbers: ER25-2527-001.

Applicants: Entergy Mississippi, LLC.

Description: Tariff Amendment: Wildwood Solar, LLC, LBA Agreement to be effective 9/1/2025.

Filed Date: 7/29/25.

Accession Number: 20250729-5038.

Comment Date: 5 p.m. ET 8/19/25.

Docket Numbers: ER25-2998-000.

Applicants: Kingman Wind II, LLC.

Description: § 205(d) Rate Filing: Application for Market-Based Rate Authorization—Kingman Wind II, LLC to be effective 9/27/2025.

Filed Date: 7/28/25.

Accession Number: 20250728-5132.

Comment Date: 5 p.m. ET 8/18/25.

Docket Numbers: ER25-2999-000.

Applicants: Freepoint Commodities LLC.

Description: § 205(d) Rate Filing: Normal filing 2025 to be effective 7/29/2025.

Filed Date: 7/28/25.

Accession Number: 20250728-5139.

Comment Date: 5 p.m. ET 8/18/25.

Docket Numbers: ER25-3000-000.

Applicants: Ninnescah Wind Renewables, LLC.

Description: § 205(d) Rate Filing: Application for Market-Based Rate Authorization—Ninnescah Wind Renewables, LLC to be effective 9/27/2025.

Filed Date: 7/28/25.

Accession Number: 20250728-5136.

Comment Date: 5 p.m. ET 8/18/25.

Docket Numbers: ER25-3001-000.

Applicants: Freepoint Energy Solutions LLC.

Description: § 205(d) Rate Filing: Normal filing 2025 to be effective 7/29/2025.

Filed Date: 7/28/25.

Accession Number: 20250728-5137.

Comment Date: 5 p.m. ET 8/18/25.

Docket Numbers: ER25-3002-000.

Applicants: New England Power Pool Participants Committee.

Description: § 205(d) Rate Filing: Aug 2025 Membership Filing to be effective 8/1/2025.

Filed Date: 7/29/25.

Accession Number: 20250729-5001.

Comment Date: 5 p.m. ET 8/19/25.

Docket Numbers: ER25-3003-000.

Applicants: Southwest Power Pool, Inc.

Description: § 205(d) Rate Filing: 3651R1 Arkansas Electric Cooperative Corp NITSA NOA to be effective 7/1/2025.

Filed Date: 7/29/25.

Accession Number: 20250729-5020.

Comment Date: 5 p.m. ET 8/19/25.

Docket Numbers: ER25-3004-000.

Applicants: American Electric Power Service Corporation.

Description: § 205(d) Rate Filing: AEPSC submits an update to Attachment 1 of the ILDSA—SA No. 1336 to be effective 7/1/2025.

Filed Date: 7/29/25.

Accession Number: 20250729-5031.

Comment Date: 5 p.m. ET 8/19/25.

Docket Numbers: ER25-3005-000.

Applicants: Midcontinent Independent System Operator, Inc.

Description: § 205(d) Rate Filing: 2025-07-29_SA 4537 NIPSCO-North Bed Solar Project GIA (J1684) to be effective 9/28/2025.

Filed Date: 7/29/25.

Accession Number: 20250729-5054.

Comment Date: 5 p.m. ET 8/19/25.

Docket Numbers: ER25-3006-000.

Applicants: Central Hudson Gas & Electric Corporation.

Description: § 205(d) Rate Filing: 2025 Revision to FERC Rate Schedule 202 to be effective 7/24/2025.

Filed Date: 7/29/25.

Accession Number: 20250729-5065.

Comment Date: 5 p.m. ET 8/19/25.

Docket Numbers: ER25-3007-000.

Applicants: Alabama Power Company, Georgia Power Company, Mississippi Power Company.

Description: § 205(d) Rate Filing: Alabama Power Company submits tariff filing per 35.13(a)(2)(iii: PowerSouth NITSA Amendment (Add Sonora Delivery Point) to be effective 6/30/2025.

Filed Date: 7/29/25.

Accession Number: 20250729-5072.

Comment Date: 5 p.m. ET 8/19/25.

Docket Numbers: ER25-3008-000.

Applicants: Northern States Power Company, a Minnesota corporation.

Description: Tariff Amendment: 2025-07-28 NSP—CAPX—Fargo4 CMA—NOC 306 to be effective 6/13/2025.

Filed Date: 7/29/25.

Accession Number: 20250729-5092.

Comment Date: 5 p.m. ET 8/19/25.

Docket Numbers: ER25-3009-000.

Applicants: Portland General Electric Company.

Description: Compliance filing: Ancillary Services Compliance Filing to be effective 8/1/2025.

Filed Date: 7/29/25.

Accession Number: 20250729-5124.

Comment Date: 5 p.m. ET 8/19/25.

Take notice that the Commission received the following public utility holding company filings:

Docket Numbers: PH25-14-000.

Applicants: New Jersey Resources Corporation.

Description: New Jersey Resources Corporation submits FERC 65-A Exemption Notification.

Filed Date: 7/28/25.

Accession Number: 20250728-5158.

Comment Date: 5 p.m. ET 8/18/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: July 29, 2025.
Carlos D. Clay,
Deputy Secretary.

[FR Doc. 2025-14608 Filed 7-31-25; 8:45 am]

BILLING CODE 6717-01-P